DEPARTMENT OF ENERGY

Federal Energy Regulatory Commission

[Docket No. RM96-1-019,

Standards For Business Practices of Interstate Natural Gas Pipelines; Notice of Compliance Filing

| Docket No.
Algonquin Gas Transmission Company | RP02-259-000
Algonquin LNG, Inc. | RP02-260-000
Alliance Pipeline L.P. | RP02-315-000
ANR Pipeline Company | RP02-287-000
ANR Storage Company | RP02-282-000
Black Marlin Pipeline Company | RP02-311-000
Blue Lake Gas Storage Company | RP02-285-000
Canyon Creek Compression Company | RP02-267-000
Carnegie Interstate Pipeline Company | RP02-273-000
Central New York Oil and Gas Company, LLC | RP02-274-000
CMS Trunkline Gas Company, LLC | RP02-304-000
CMS Trunkline LNG Company, LLC | RP02-303-000
Colorado Interstate Gas Company | RP02-295-000
Columbia Gas Transmission Corporation | RP02-254-000
Columbia Gulf Transmission Company | RP02-252-000
Cove Point LNG Limited Partnership | RP02-312-000
Crossroads Pipeline Company | RP02-255-000
Dauphin Island Gathering Partners | RP02-266-000
Destin Pipeline Company, L.L.C. | RP02-256-000
Dominion Transmission, Inc. | RP02-246-000
East Tennessee Natural Gas Company | RP02-262-000
Egan Hub Partners, L.P. | RP02-264-000
El Paso Natural Gas Company | RP02-288-000
Enbridge Pipelines (KPC) | RP02-239-000
Enbridge Offshore Pipelines (UTOS) LLC | RP02-247-000
Enbridge Pipelines (AlaTenn) Inc. | RP02-245-000
Enbridge Pipelines (Midla) Inc. | RP02-244-000
Equitrans, L.P. | RP02-278-000
Garden Banks Gas Pipeline, LLC | RP02-251-000
Granite State Gas Transmission, Inc. | RP02-253-000
Great Lakes Gas Transmission Limited Partnership | RP02-322-000
Gulf South Pipeline Company, LP | RP02-313-000
Gulf States Transmission Corporation | RP02-280-000
High Island Offshore System, L.L.C. | RP02-283-000
Honeoye Storage Corporation | RP02-300-000
Horizon Pipeline Company, L.L.C. | RP02-270-000
Iroquois Gas Transmission System, L.P. | RP02-276-000
Kern River Gas Transmission Company | RP02-237-000
Kinder Morgan Interstate Gas Transmission LLC | RP02-249-000
KO Transmission Company | RP02-316-000
Maritimes & Northeast Pipeline, L.L.C. | RP02-265-000
Midwestern Gas Transmission Company | RP02-320-000
MIGC Inc. | RP02-293-000
Mississippi Canyon Gas Pipeline, LLC | RP02-250-000
Mississippi River Transmission Corporation | RP02-298-000
Mojave Pipeline Company | RP02-294-000
National Fuel Gas Supply Corporation | RP02-319-000
Natural Gas Pipeline Company of America | RP02-269-000
Nautilus Pipeline Company, LLC | RP02-257-000
Northern Border Pipeline Company | RP02-321-000
Northern Natural Gas Company | RP02-235-000
Northwest Pipeline Corporation | RP02-308-000
Ozark Gas Transmission, L.L.C. | RP02-271-000
Panhandle Eastern Pipe Line Company | RP02-302-000
Petal Gas Storage, L.L.C. | RP02-281-000
PG&E Gas Transmission, Northwest Corporation | RP02-272-000
Pine Needle LNG Company, LLC | RP02-310-000
Portland Natural Gas Transmission System | RP02-314-000
Reliant Energy Gas Transmission Company | RP02-299-000
Sabine Pipe Line LLC | RP02-317-000
Sea Robin Pipeline Company | RP02-305-000
Southern LNG Inc. | RP02-290-000
Southern Natural Gas Company | RP02-289-000
Southwest Gas Storage Company | RP02-301-000
Steuben Gas Storage Company | RP02-291-000
Stingray Pipeline Company | RP02-258-000
Tennessee Gas Pipeline Company | RP02-279-000
Texas Gas Transmission Corporation | RP02-307-000
Texas Eastern Transmission, L.P. | RP02-263-000
Trailblazer Pipeline Company | RP02-268-000
Transwestern Pipeline Company | RP02-236-000
Tuscarora Gas Transmission System | RP02-277-000
USG Pipeline Company | RP02-296-000
Vector Pipeline L.P. | RP02-292-000
Venice Gathering System, L.L.C. | RP02-275-000
Viking Gas Transmission Company | RP02-297-000
WestGas Interstate, Inc. | RP02-240-000
Williams Gas Pipelines Central, Inc. | RP02-306-000
Williston Basin Interstate Pipeline Company | RP02-261-000
Wyoming Interstate Company, Ltd. | RP02-286-000
Young Gas Storage Company, Ltd. | RP02-284-000] (Not Consolidated)

Take notice that the above-referenced pipelines made filings in compliance with Docket No. RM96-1-019, Order No. 587-N.¹ These revised tariff sheets to be effective July 1, 2002, implements Commission regulation 284.12(c)(1)(ii)(B) that requires that pipelines permit releasing shippers, as a condition of a capacity release, to recall released capacity and renominate such recalled capacity at each nomination opportunity. The filings implement the first phase of compliance with Order No. 587-N by implementing recalls of scheduled capacity for the Timely and Evening Nomination Cycles and for recalls of unscheduled capacity at any of the four nomination cycles.

Any person desiring to become a party in a proceeding must file a separate motion to intervene or protest in each docket.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

¹ Standards For Business Practices Of Interstate Natural Gas Pipelines, Order No. 587-N, 67 FR 11906 (March 18, 2002), FERC Stats. & Regs. Regulations Preambles ¶ 31,125 (March 11, 2002).

Linwood A. Watson, Jr.,
Deputy Secretary.

[FR Doc. 02-11600 Filed 5-8-02; 8:45 am]

BILLING CODE 6717-01-P